DEPARTMENT OF THE INTERIOR

Fish and Wildlife Service

[FWS-R8-ES-2008-N0051; 11120-0008-0221-F2]

Amendment to the Incidental Take Permit for the San Bruno Mountain Habitat Conservation Plan in San Mateo County, CA

AGENCY: Fish and Wildlife Service, Interior.

ACTION: Notice of availability and receipt of application.

SUMMARY: We, the U.S. Fish and Wildlife Service (Service), announce that the County of San Mateo and the City of Brisbane, acting on the behalf of the County of San Mateo and Cities of Brisbane, Daly City, and South San Francisco (Applicants or Permittees), have applied for an amendment to an incidental take permit under the Federal Endangered Species Act of 1973, as amended (Act). We are considering the issuance of an amended permit to the Applicants that would add the authorization for take of the federally endangered callippe silverspot butterfly (Speyeria callippe callippe) (callippe) and the federally threatened bay checkerspot butterfly (Ephydra editha bayensis) (bay checkerspot) incidental to the Applicant's activities outlined in their proposed amendments to the 1982 San Bruno Mountain Habitat Conservation Plan (HCP) in San Mateo County, California. The HCP amendments would adjust the boundaries of Conserved Habitat within the 228-acre Northeast Ridge (Administrative Parcel 1-07) and provide supplemental HCP funding provisions that would allow additional habitat management and monitoring activities to occur on the approximately 2,828 acres of habitat conserved and managed under the HCP on San Bruno Mountain.

We request comments from the public on the permit application and an Environmental Assessment. The permit application includes the Biological Study and Analysis of Conserved Habitat for Amendments to the Habitat Conservation Plan for San Bruno Mountain and Incidental Take Permit PRT 2-9818 (Study). The Study describes the proposed changes to the 1982 HCP as it was last amended in 1989, and the measures that the Applicants would undertake to minimize and mitigate take of the covered species.

DATES: We must receive your written comments on or before June 16, 2008.

ADDRESSES: Please address written comments to Eric Tattersall, Acting Chief, Conservation Planning and Recovery Division, Fish and Wildlife Service, Sacramento Fish and Wildlife Office, 2800 Cottage Way, W-2605, Sacramento, California 95825. You also may send comments by facsimile to (916) 414-6713.

FOR FURTHER INFORMATION CONTACT: Eric Tattersall, Acting Chief, Conservation Planning and Recovery Division, Sacramento Fish and Wildlife Office, at (916) 414-6600.

SUPPLEMENTARY INFORMATION:

Availability of Documents

You may obtain copies of these documents for review by contacting the individual named above [see FOR FURTHER INFORMATION CONTACT]. Documents also will be available for public inspection, by appointment, during normal business hours at the Sacramento Fish and Wildlife Office [see ADDRESSES].

Background

Section 9 of the Act and Federal regulations prohibit the “take” of fish and wildlife species listed as endangered or threatened (16 U.S.C. 1538). Take of federally listed fish or wildlife is defined under the Act to include the following activities: harass, harm, pursue, hunt, shoot, wound, kill, trap, capture, or collect, or to attempt to engage in any such conduct (16 U.S.C. 1532). We may, under limited circumstances, issue permits to authorize incidental take (i.e., take that is incidental to, and not the purpose of, the carrying out of an otherwise lawful activity). Regulations governing incidental take permits for endangered species are found in 50 CFR 17.22 and 50 CFR 17.32.

San Bruno Mountain is located on the northern San Francisco Peninsula, just south of the San Mateo-San Francisco County boundary. The Mountain is surrounded on all sides by the cities of Colma to the west, Daly City to the north, Brisbane to the east, and South San Francisco to the south. The San Bruno Mountain HCP study area consists of 3,537 acres, of which 2,828 acres are presently Conserved Habitat.

The County of San Mateo and City of Brisbane are requesting, on behalf of the HCP permittees, an amendment to an existing incidental take permit for activities covered by proposed amendments to the 1982 HCP, as amended. The proposed HCP amendments would include the following changes. Chapter VII of the HCP would be revised to replace the approved operating program for development of the Northeast Ridge (the 1989 Vesting Tentative Map (VTM)) to allow for the development of Unit II-Neighborhood II (UII-NII) under a proposed 2007 modification (the 2007 VTM). The reconfiguration would reduce the amount of land to be developed and increase the size and value of Conserved Habitat within the Northeast Ridge, as well as reduce impacts to the Species of Concern covered under the HCP.

Section V.B of the HCP would be amended to address supplemental funding of four million dollars to be provided by the developer, Brookfield Northeast Ridge II LLC, concomitant to development of UII-NII within the Northeast Ridge. These funds would establish an HCP Endowment, which would be funded incrementally upon the granting of final map approval for the lots in UII-NII, pursuant to an agreement between Brookfield Northeast Ridge II LLC and the City of Brisbane. The HCP Endowment would be managed by the HCP Trustees and would be available to fund ongoing habitat management and monitoring activities described in the Habitat Management Plan (HMP) that is appended to the Study. Section V.B would also be amended to increase the annual charge per dwelling unit and per 1,000 feet of floor area for commercial and industrial activities within the portion of the HCP area under the City of Brisbane's jurisdiction. All funds from the annual charge would be part of the HCP's Trust Fund and managed by the Trustees.

These amendments and the biological analysis required by the 1982 HCP are detailed in the Study. The Study evaluates the proposed change to the boundary of the Conserved Habitat on the Northeast Ridge parcel described in the HCP and considers the effect of this action, and ongoing management and monitoring activities, on the callippe, the listed species on the existing incidental take permit (the mission blue butterfly (Icaricia icarioides missionensis), San Bruno elfin butterfly (Callophrys mossii bayensis), bay checkerspot, and San Francisco garter snake (Thamnophis sirtalis tetrataenia), and other listed species that currently occur or have been historically documented on the Mountain, including the California red-legged frog (Rana aurora draytonii). It also considers the effects of grading that occurred in 2007 for the installation of infrastructure and other drainage and slope stability improvements deemed necessary by the City of Brisbane for public health, safety, and welfare reasons (2007 Infrastructure Grading).

The Service's Environmental Assessment considers the environmental consequences of three alternatives. The Proposed Project Alternative consists of the issuance of an amendment to the incidental take permit and implementation of the Study and HMP. With Alternative 2 (1989 Northeast Ridge Plan), an amendment to the existing incidental take permit would be issued to add take coverage for the callippe silverspot and bay checkerspot for the adopted HCP, which includes the 1989 VTM for Northeast Ridge and continuation of habitat management activities under the existing funding program. With the No Action alternative, there would be no issuance of an amendment to the existing incidental take permit to add take coverage for the callippe silverspot and bay checkerspot. The proposed reconfiguration of the Northeast Ridge would not occur, nor would the supplementary funding for vegetation management on the Mountain be provided. Under the No Action alternative, certain types of habitat management activities for conserved habitats on the Mountain would not have take authorization.

Public Review

We invite the public to review the Plan, Implementing Agreement and Environmental Assessment during a 60-day public comment period (see DATES). Before including your address, phone number, e-mail address, or other personal identifying information in your comment, you should be aware that your entire comment—including your personal identifying information—may be made publicly available at any time. While you may ask us in your comment to withhold your personal identifying information from public review, we cannot guarantee that we will be able to do so.

We provide this notice pursuant to section 10(a) of the Act and the regulations for implementing NEPA, as amended (40 CFR 1506.6). We will evaluate the application, associated documents, and comments submitted thereon to determine whether the application meets the requirements of NEPA regulations and section 10(a) of the Act. If we determine that those requirements are met, we will issue a permit to the Applicant for the incidental take of the covered species. We will make our final permit decision no sooner than 60 days from the date of this notice.

Dated: April 9, 2008.
Ken McDermond,
Deputy Regional Director, Region 8, California and Nevada, Sacramento, California.

[FR Doc. E8-8051 Filed 4-14-08; 8:45 am]

BILLING CODE 4310-55-P